SOCIAL SECURITY ADMINISTRATION

Agency Information Collection Activities: Proposed Request

The Social Security Administration (SSA) publishes a list of information collection packages requiring clearance by the Office of Management and Budget (OMB) in compliance with Public Law (Pub. L.) 104-13, the Paperwork Reduction Act of 1995, effective October 1, 1995. This notice includes an extension of an OMB-approved information collection.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Director to the following addresses or fax numbers.

(OMB) Office of Management and Budget, Attn: Desk Officer for SSA, Fax: 202-395-6974, E-mail address: OIRA_Submission@omb.eop.gov.

(SSA) Social Security Administration, DCBFM, Attn: Director, Center for Reports Clearance, 1333 Annex Building, 6401 Security Blvd., Baltimore, MD 21235, Fax: 410-965-0454, E-mail address: OPLM.RCO@ssa.gov.

The information collection below is pending at SSA. SSA will submit it to OMB within 60 days from the date of this notice. To be sure we consider your comments, we must receive them no later than July 26, 2010. Individuals can obtain copies of the collection instrument by calling the SSA Director for Reports Clearance at 410-965-0454 or by writing to the above e-mail address.

Registration for Appointed Representative Services and Direct Payment—0960-0732. SSA uses Form SSA-1699 to register appointed representatives of claimants before SSA who:

• Want to register for direct payment of fees;

• Registered for direct payment of fees prior to 10/31/09, but need to update their information;

• Registered as appointed representatives on or after 10/31/09, but need to update their information; or

• Received a notice from SSA instructing them to complete this form.

SSA will use the SSA-1699 to: (1) Authenticate and authorize appointed representatives; (2) allow them to access our records for the claimants they represent; (3) facilitate direct payment of authorized fees to him/her; and (4) collect the information we will need to meet Internal Revenue Service (IRS) requirements. SSA will issue specific IRS forms if we pay an appointed representative in excess of $600.

In February 2010, we received emergency clearance for a new, simplified version of this form. We are now seeking full clearance for this simplified version. The respondents are appointed representatives who want to use Form SSA-1699 for any of the purposes cited in this Notice.

Type of Request: Extension of an OMB-approved information collection.

Number of Respondents: 52,800.

Frequency of Response: 1.

Average Burden per Response: 20 minutes.

Estimated Annual Burden: 17,600 hours.

Dated: May 12, 2010.
Faye I. Lipsky,
Center for Reports Clearance, Social Security Administration.

[FR Doc. 2010-12631 Filed 5-25-10; 8:45 am]

BILLING CODE 4191-02-P